DEPARTMENT OF DEFENSE

Office of the Secretary

[Docket ID: DOD-2019-OS-0133]

Proposed Collection; Comment Request

AGENCY: Office of the Undersecretary of Defense for Personnel & Readiness, DoD.

ACTION: Information collection notice.

SUMMARY: In compliance with the Paperwork Reduction Act of 1995, the Office of the Undersecretary of Defense for Personnel & Readiness, DoD announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 10, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Undersecretary of Defense (Personnel and Readiness), 1500 Defense Pentagon, Washington, DC 20350, Andrew Corso, 703-693-1050.

SUPPLEMENTARY INFORMATION: Title; Associated Form; and OMB Number: Data for Payment of Retired Personnel to Include Eligible Family Members; DD Form 2656, DD Form 2656-1, DD Form 2656-2, DD Form 2656-5, DD Form 2656-6, DD Form 2656-7, DD Form 2656-8, DD Form 2656-10; OMB Control Number 0704-0569.

Needs and Uses: DD Forms 2656 “Data for Payment of Retired Pay,” 2656-1 “Survivor Benefit Plan (SBP) Election Statement for Former Spouse Coverage,” 2656-2 “Survivor Benefit Plan (SBP) Termination Request,” 2656-5 “Reserve Component Survivor Benefit Plan (RCSBP) Election Certificate,” 2656-6 “Survivor Benefit Plan Election Change Certificate,” 2656-7 “Verification for Survivor Annuity,” 2656-8 “Survivor Benefit Plan (SBP) Automatic Coverage Fact Sheet,” 2656-10 “Survivor Benefit Plan (SBP) Former Spouse Request for Deemed Election,” are used by the Department of Defense to collect information regarding a uniformed service member's military retired pay and his or her election to participate in and designate beneficiaries under the Survivor Benefit Plan (SBP or RCSBP), as well as elections of the eligible family member(s) or Insurable Interest Beneficiary to receive coverage under Survivor Benefit Plan (SBP or RCSBP).

Affected Public: Individuals or Households.

DD Form 2656 “Data for Payment of Retired Personnel”

Annual Burden Hours: 16,700.

Number of Respondents: 66,800.

Responses per Respondent: 1.

Annual Responses: 66,800.

Average Burden per Response: 15 minutes.

Frequency: As required.

DD Form 2656-1 “Survivor Benefit Plan Election Statement for Former Spouse Coverage”

Annual Burden Hours: 2,375.

Number of Respondents: 9,500.

Responses per Respondent: 1.

Annual Responses: 9,500.

Average Burden per Response: 15 minutes.

Frequency: As required.

DD Form 2656-2 “Survivor Benefit Plan Termination Request”

Annual Burden Hours: 1,875.

Number of Respondents: 7,500.

Responses per Respondent: 1.

Annual Responses: 7,500.

Average Burden per Response: 15 minutes.

Frequency: As required.

DD Form 2656-5 “Reserve Component Survivor Benefit Plan Election Certificate”

Annual Burden Hours: 1,475.

Number of Respondents: 5,900.

Responses per Respondent: 1.

Annual Responses: 5,900.

Average Burden per Response: 15 minutes.

Frequency: As required.

DD Form 2656-6 “Survivor Benefit Plan Election Change Certificate”

Annual Burden Hours: 4,225.

Number of Respondents: 16,900.

Responses per Respondent: 1.

Annual Responses: 16,900.

Average Burden per Response: 15 minutes.

Frequency: As required.

DD Form 2656-7 “Verification for Survivor Annuity”

Annual Burden Hours: 2,400.

Number of Respondents: 9,600.

Responses per Respondent: 1.

Annual Responses: 9,600.

Average Burden per Response: 15 minutes.

Frequency: As required.

DD Form 2656-8 “Survivor Benefit Plan—Automatic Coverage Fact Sheet”

Annual Burden Hours: 1,375.

Number of Respondents: 5,500.

Responses per Respondent: 1.

Annual Responses: 5,500.

Average Burden per Response: 15 minutes.

Frequency: As required.

DD Form 2656-10 “Survivor Benefit Plan/Reserve Component Benefit Plan Request for Deemed Election”

Annual Burden Hours: 1,562.

Number of Respondents: 6,250.

Responses per Respondent: 1.

Annual Responses: 6,250.

Average Burden per Response: 15 minutes.

Frequency: As required.

Every uniformed service member of the Department of Defense and U.S. Coast Guard who retires or reaches the age of eligibility to begin receiving retired pay, in the case of members of the Reserves and National Guard, should voluntarily complete this form to request retired pay, designate and change beneficiaries, and make a SBP election, or decline coverage. Eligible beneficiaries have an ability to voluntarily complete this form to request or waive coverage. The information requested allows the Defense Finance and Accounting Service (DFAS) to establish a retired pay account for that individual as well as eligible covered beneficiaries, provides a record of that retiree's designation of beneficiaries, allows the retiree (if eligible) to make an election of a lump sum of retired pay, and allows the Service member to make an election to participate in the SBP.

Dated: December 6, 2019.
Aaron T. Siegel,
Alternate OSD Federal Register Liaison Officer, Department of Defense.

[FR Doc. 2019-26688 Filed 12-10-19; 8:45 am]

BILLING CODE 5001-06-P